DEPARTMENT OF HEALTH AND HUMAN SERVICES

Centers for Disease Control and Prevention

[60Day-07-07AH]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Formative Research to inform the development of new recommendations for Human Immunodeficiency Virus (HIV), Counseling, Testing, and Referral in non-health care settings—New-National Center for HIV/AIDS, Viral Hepatitis, STD, and TB Prevention (NCHHSTP), Coordinating Center for Infectious Diseases (CCID), Centers for Disease Control and Prevention (CDC).

Background and Brief Description

This project involves formative research to elicit consumer opinions on HIV counseling, testing, and referral (CTR) in non-health care settings. The study entails conducting focus groups with persons who are either HIV positive or at risk for HIV because of their drug injection or sexual behavior. The purpose of the focus groups is to explore: (1) Facilitators and barriers to using CTR services in non-health care settings; (2) ideal service components to decrease barriers to early diagnosis, decrease risk behaviors, link clients with follow-up care, and ensure client rights; (3) perceived risks and benefits of CTR; and (4) preferences for providing informed consent.

CDC will use study findings to inform the development of new recommendations for HIV CTR in non-health care settings. We expect a total of 450 participants to be screened for eligibility. Of the 450 participants who are screened, we expect that 180 people will participate in a focus group. There are no costs to the respondents other than their time.

Estimated Annualized Burden Hours
Respondents | Number of respondents | Responses per respondent | Average burden per response (In hours) | Total burden hours
Screener | 450 | 1 | 20/60 | 150
Focus Group | 180 | 1 | 2 | 360
Total |  |  |  | 510

Dated: January 11, 2007.
Joan F. Karr,
Acting Reports Clearance Officer, Centers for Disease Control and Prevention.

[FR Doc. E7-771 Filed 1-19-07; 8:45 am]

BILLING CODE 4163-18-P